DEPARTMENT OF COMMERCE

International Trade Administration

[A-549-822]

Certain Frozen Warmwater Shrimp From Thailand; Preliminary Results of Antidumping Duty Administrative Review, Rescission of Review, in Part, and Preliminary Determination of No Shipments; 2023-2024

AGENCY: Enforcement and Compliance, International Trade Administration, Department of Commerce.

SUMMARY: The U.S. Department of Commerce (Commerce) preliminarily finds that certain producers/exporters subject to this administrative review, made sales of subject merchandise at less than normal value (NV) during the period of review (POR) February 1, 2023, through January 31, 2024. Additionally, we preliminarily determine that certain companies for which we initiated a review did not have any shipments during the POR. We are rescinding this administrative review, in part, with respect to 175 companies. Interested parties are invited to comment on these preliminary results.

DATES: Applicable June 11, 2025.

FOR FURTHER INFORMATION CONTACT: Gregory Taushani, AD/CVD Operations, Office II, Enforcement and Compliance, International Trade Administration, U.S. Department of Commerce, 1401 Constitution Avenue NW, Washington, DC 20230; telephone: (202) 482-1012.

SUPPLEMENTARY INFORMATION:

Background

On February 1, 2005, Commerce published in the Federal Register the antidumping duty order on certain frozen warmwater shrimp (shrimp) from Thailand.¹ On February 2, 2024, Commerce published in the Federal Register a notice of opportunity to request an administrative review of the Order for the POR.² On April 9, 2024, based on timely requests for review, and pursuant to section 751(a)(1) of the Tariff Act of 1930, as amended (the Act), we initiated an administrative review of the Order.³ On May 30, 2024, Commerce selected two mandatory respondents for individual examination: (1) Charoen; ⁴ and (2) Thai Union.⁵ After issuing the initial AD questionnaires to both companies, Charoen submitted a letter in which it informed Commerce that it was suspending its participation in this review.⁶ Subsequently, we selected Thai Royal Frozen Food Co., Ltd. (Thai Royal) as an additional respondent for individual examination.⁷ In addition to Charoen, Thai Union, and Thai Royal, this review covers 13 producers/exporters of the subject merchandise that are non-individually examined companies, as identified in Appendix III of this notice.⁸

¹ See Notice of Amended Final Determination of Sales at Less Than Fair Value and Antidumping Duty Order: Certain Frozen Warmwater Shrimp from Thailand, 70 FR 5145 (February 1, 2005) (Order).

² See Antidumping or Countervailing Duty Order, Finding, or Suspended Investigation; Opportunity to Request Administrative Review and Join Annual Inquiry Service List, 89 FR 7366 (February 2, 2024).

³ See Initiation of Antidumping and Countervailing Duty Administrative Reviews, 89 FR 24780 (April 9, 2024) (Initiation Notice).

⁴ In past reviews, Commerce found Charoen Pokphand Foods Public Company Limited and CP Merchandising Co., Ltd. to be a single entity. See, e.g., Certain Frozen Warmwater Shrimp from Thailand: Final Results of Antidumping Duty Administrative Review; Final Determination of No Shipments; 2015-2016, 82 FR 30836 (July 3, 2017). Absent information to the contrary, we intend to continue to treat these companies as a single entity for the purpose of this administrative review.

⁵ See Memorandum, “Respondent Selection,” dated May 30, 2024. In the 2012-2013 administrative review, Commerce found that the following companies comprised a single entity: Thai Union Frozen Products Public Co. Ltd.; Thai Union Seafood Co., Ltd.; Pakfood Public Company Limited; Asia Pacific (Thailand) Co., Ltd.; Chaophraya Cold Storage Co., Ltd.; Okeanos Co., Ltd.; Okeanos Food Co., Ltd.; Takzin Samut Co., Ltd.. See Certain Frozen Warmwater Shrimp from Thailand: Final Results of Antidumping Duty Administrative Review, Final Determination of No Shipments, and Partial Rescission of Review; 2012-2013, 79 FR 51306, 51306 (August 28, 2014) (Shrimp from Thailand 2012-13). Further, on January 5, 2016, Commerce found that Thai Union Group Public Co., Ltd. is the successor-in-interest to Thai Union Frozen Products Public Co., Ltd. See Notice of Final Results of Antidumping Changes Circumstances Review: Certain Frozen Warmwater Shrimp from Thailand, 81 FR 222 (January 5, 2016). Therefore, absent information to the contrary, we are treating these companies as a single entity for the purposes of this administrative review.

⁶ See Charoen's Letter, “Suspension of Participation,” dated August 15, 2024 (Charoen Suspension of Participation Notice).

⁷ See Memorandum, “Selection of an Additional Respondent for Individual Examination,” dated September 9, 2024.

⁸ While we initiated this review on 191 companies, as noted in the Issues and Decision Memorandum, we are rescinding this review with respect to 175 companies in the absence of suspended entries during the POR. See IDM at 1-2, 6 and Appendix II.

On July 22, 2024, Commerce tolled certain deadlines in this administrative proceeding by seven days.⁹ On October 10, 2024, Commerce extended the preliminary results of this review by 120 days, until March 7, 2025.¹⁰ On December 9, 2024, Commerce tolled the deadline for all administrative reviews by an additional 90 days.¹¹ Accordingly, the deadline for these preliminary results is now June 5, 2025.

⁹ See Memorandum, “Tolling of Deadlines for Antidumping and Countervailing Duty Proceedings,” dated July 22, 2024.

¹⁰ See Memorandum, “Extension of Deadline for Preliminary Results of Antidumping Duty Administrative Review,” dated October 10, 2024.

¹¹ See Memorandum, “Tolling of Deadlines for Antidumping and Countervailing Duty Proceedings,” dated December 9, 2024.

On May 19, 2025, Commerce notified interested parties of our intent to rescind this administrative review with respect to the 175 companies that have no reviewable suspended entries.¹²

¹² See Memorandum, “Notice of Intend to Rescind Review, In Part,” dated May 19, 2025 (Intend to Rescind Memorandum).

For a complete description of the events that followed the initiation of this review, see the Preliminary Decision Memorandum.¹³ A list of topics discussed in the Preliminary Decision Memorandum is included in Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade/gov/public/FRNoticesListLayout.aspx.

¹³ See Memorandum, “Decision Memorandum for the Preliminary Results of the Antidumping Duty Administrative Review of Frozen Warmwater Shrimp from Thailand; 2023-2024, ” dated concurrently with, and hereby adopted by, this notice (Preliminary Decision Memorandum).

Scope of the Order

The merchandise subject to the Order is certain frozen warmwater shrimp. For a full description of the scope of the Order, see the Preliminary Decision Memorandum.

Rescission of Administrative Review, in Part

Pursuant to 19 CFR 351.213(d)(3), Commerce will rescind an administrative review, in whole or in part, if a company covered by the review had no recorded entries of subject merchandise during the POR. Based on our analysis of U.S. Customs and Border Protection (CBP) information, we preliminarily determine that 175 companies listed in the Initiation Notice had no recorded entries of subject merchandise during the POR. On May 19, 2025, we notified parties of our intent to rescind this administrative review with respect to the 175 companies listed in Appendix II that had no reviewable suspended entries during the POR.¹⁴ No parties commented on our Intent to Rescind Memorandum. As a result, we are rescinding this review, in part, with respect to the 175 companies listed in Appendix II of this notice.

¹⁴ See Intent to Rescind Memorandum.

Preliminary Determination of No Shipments

Among the companies under review, (1) Phattana Frozen Food Co., Ltd. (Phattana Frozen Food); and (2) Thai Union Manufacturing Company Limited (Thai Union Manufacturing) properly filed statements reporting that they made no shipments of subject merchandise to the United States during the POR.¹⁵ We preliminarily determine that there is no evidence on the record of this review that contradicts Phattana Frozen Food and Thai Union Manufacturing's claims of no shipments. Therefore, we are continuing to include both Phattana Frozen Food and Thai Union Manufacturing in this administrative review for purposes of the preliminary results. Moreover, consistent with our practice, we are not preliminarily rescinding the review with respect to Phattana Frozen Food and Thai Union Manufacturing, but, rather, we will complete the review with respect to the companies and issue appropriate instructions to CBP based on the final results of this review.¹⁶

¹⁵ See Thai Union Manufacturing Co., Ltd's letter, “No Shipment Certification,” dated May 9, 2024; see also Andaman Seafood Co., Ltd's letter, “No Shipment Certification,” dated May 9, 2024 (filed on behalf of Phattana Frozen Food).

¹⁶ See e.g., Certain Frozen Warmwater Shrimp from Thailand; Preliminary Results of Antidumping Duty Administrative Review, Partial Rescission of Review, Preliminary Determination of No Shipments; 2012-2013, 79 FR 15951, 15952 (March 24, 2014), unchanged in Shrimp from Thailand 2012-13.

Methodology

Commerce is conducting this review in accordance with sections 751(a)(1)(B) and (2) of the Act. We calculated export price, constructed export price, and NV in accordance with sections 772 and 773 of the Act, respectively. Pursuant to sections 776(a) and (b) of the Act, Commerce preliminarily relied entirely upon facts otherwise available with adverse inferences to determine the preliminary dumping margin for Charoen. For a full description of the methodology underlying our conclusions, see the Preliminary Decision Memorandum.

Rates for the Non-Individually Examined Companies

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

Where the dumping margin for individually examined respondents are all zero, de minimis, or based entirely on facts available, section 735(c)(5)(B) of the Act provides that Commerce may use “any reasonable method to establish the estimated all-others rate for exporters and producers not individually investigated, including averaging the estimated weighted average dumping margins determined for the exporters and producers individually investigated.”

In this review, we preliminarily calculated weighted-average dumping margins of 0.00 percent for Thai Union and 0.73 percent for Thai Royal. In accordance with section 735(c)(5)(A) of the Act, we are preliminarily assigning to the companies not individually examined a weighted-average dumping margin of 0.73 percent, the only non-zero or de minimis weighted-average dumping margin calculated for the mandatory respondents.¹⁷ The companies not selected for individual examination are listed in Appendix III.

¹⁷ See section 735(c)(5)(A) of the Act.

Preliminary Results of the Review

We preliminarily determine the following estimated weighted-average dumping margin exists for the period February 1, 2023, through January 31, 2024:

Exporter/producer | Weighted-average dumping margin (percent)
Charoen Pokphand Foods Public Co., Ltd. | 57.64
Thai Union Group Public Co., Ltd./Thai Union Seafood Co., Ltd./Pakfood Public Company Limited/Asia Pacific (Thailand) Co., Ltd./Chaophraya Cold Storage Co., Ltd./Okeanos Co., Ltd./Okeanos Food Co., Ltd./Takzin Samut Co., Ltd. | 0.00
Thai Royal Frozen Foods Co., Ltd. | 0.73
Review-Specific Rate for Non-Examined Companies ¹⁸ | 0.73

Disclosure

¹⁸ See Appendix III.

Commerce intends to disclose its calculations and analysis performed to interested parties for these preliminary results within five days of any public announcement or, if there is no public announcement, within five days of the date of publication of this notice in accordance with 19 CFR 351.224(b).

Verification

Commerce received timely requests from the petitioners to verify the information submitted in this administrative review, pursuant to 19 CFR 307(b)(1)(iv).¹⁹ As provided in section 782(i)(3) of the Act, Commerce intends to verify information reported by Thai Union prior to issuing its final results.

¹⁹ See ASPA's Letter, “Request for Verification,” dated July 17, 2024.

Public Comment

Because Commerce intends to conduct verification of the questionnaire responses of Thai Union, interested parties will be notified of the deadline for the submission of case briefs at a later date.²⁰ Pursuant to 19 CFR 351.309(c)(1)(ii), interested parties may submit case briefs to Commerce to no later than seven days after the date on which the verification report is issued in this administrative review. Rebuttal briefs, limited to issues raised in the case briefs, may be filed no later than five days after the time limit for filing case briefs. Pursuant to 19 CFR 351.309(c)(2) and (d)(2), parties who submit case briefs or rebuttal briefs in this proceeding must submit: (1) a table of contents listing each issue; and (2) a table of authorities.²¹ Case and rebuttal briefs should be filed using ACCESS.²²

²⁰ See 19 CFR 351.303 (for general filing requirements).

²¹ See 19 CFR 351.309(c)(2) and (d)(2).

²² See 19 CFR 351.303.

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²³ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²⁴

²³ We use the term “issue” here to describe an argument that Commerce would normally address in a comment of the Issues and Decision Memorandum.

²⁴ See APO and Service Procedures.

Pursuant to 19 CFR 351.310(c), interested parties who wish to request a hearing must submit a written request to the Assistant Secretary for Enforcement and Compliance, filed electronically via ACCESS within 30 days after the date of publication of this notice.²⁵ Hearing requests should contain: (1) the requesting party's name, address, and telephone number; (2) the number of individuals from the requesting party that will attend the hearing and whether any of those individuals is a foreign national; and (3) a list of issues to be discussed at the hearing. Issues raised in the hearing will be limited to issues raised in the party's case and rebuttal briefs. An electronically filed document must be received successfully in its entirety by ACCESS by 5:00 p.m. Eastern Time on the established deadline. If a request for a hearing is made, Commerce will inform parties of the scheduled date for the hearing.²⁶

²⁵ See 19 CFR 351.310(c).

²⁶ See 19 CFR 351.310(d).

Assessment Rates

Pursuant to section 751(a)(2)(A) of the Act, upon completion of the final results of this administrative review, Commerce shall determine and CBP shall assess antidumping duties on all appropriate entries of subject merchandise covered by this review.²⁷ If an examined respondent's weighted-average dumping margin is not zero or de minimis (i.e., less than 0.5 percent) in the final results of this review, we intend to will calculate importer-specific ad valorem antidumping duty assessment rates based on the basis of the ratio of the total amount of dumping calculated for each importer's examined sales and the total entered value of those same sales in accordance with 19 CFR 351.212(b)(1).²⁸ Where the respondent did not report entered value, we will calculate the entered value in order to calculate the assessment rate. If the weighted-average dumping margin for the respondents listed above is zero or de minimis in the final results, or an importer-specific assessment rate is zero or de minimis in the final results, we intend to instruct CBP to liquidate relevant entries without regards to antidumping duties.²⁹

²⁷ See 19 CFR 351.212(b).

²⁸ See Antidumping Proceedings: Calculation of the Weighted-Average Dumping Margin and Assessment Rate in Certain Antidumping Proceedings: Final Modification, 77 FR 8101, 8103 (February 14, 2012).

²⁹ Id., 77 FR at 8102; see also 19 CFR 351.106(c)(2).

Commerce's “automatic assessment” will apply to entries of subject merchandise during the POR produced by Thai Union for which it did not know that the merchandise it sold to an intermediary (e.g., a reseller, trading company, or exporter) was destined for the United States. In such instances, we will instruct CBP to liquidate unreviewed entries at the all-others rate if there is no rate for the intermediate company(ies) involved in the transaction.³⁰

³⁰ For a full discussion of this practice, see Antidumping and Countervailing Duty Proceedings: Assessment of Antidumping Duties, 68 FR 23954 (May 6, 2003).

Consistent with Commerce's assessment practice, if we continue to find in the final results that Phattana Frozen Food and Thai Union Manufacturing had no shipments of subject merchandise during the POR, we will instruct CBP to liquidate any suspended entries that entered under their AD case number (i.e., at that exporter's rate) at the all-others rate if there is no rate for the intermediate company(ies) involved in the transaction.

For the companies identified in Appendix III, which were not selected for individual review, we will instruct CBP to assess antidumping duties on all appropriate entries at a rate equal to the weighted-average dumping margin determined in the final results of this review, unless that rate is zero or de minimis, in which case we intend to instruct CBP to liquidate relevant entries without regards to antidumping duties. The final results of this review shall be the basis for the assessment of antidumping duties on entries of merchandise covered by the final results of this review and for future deposits of estimated duties, where applicable.³¹

³¹ See section 751(a)(2)(C) of the Act.

For the companies for which this review is rescinded with these preliminary results, we will instruct CBP to assess antidumping duties on all appropriate entries at a rate equal to the cash deposit of estimated antidumping duties required at the time of entry, or withdrawal from warehouse, for consumption, during the period February 1, 2023, through January 31, 2024, in accordance with 19 CFR 351.212(c)(l)(i). Commerce intends to issue assessment instructions to CBP for the rescinded companies no earlier than 35 days after the date of publication of this notice in the Federal Register.

The final results of this administrative review shall be the basis for the assessment of antidumping duties on entries of merchandise covered by the final results of this review and for future deposits of estimated duties, where applicable.³²

³² Id.; see also 19 CFR 351.212(b).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for each company listed above will be equal to the weighted-average dumping margin established in the final results of this review, except if the rate is less than 0.50 percent and, therefore, de minimis within the meaning of 19 CFR 351.106(c)(1), in which case the cash deposit rate will be zero; (2) for previously reviewed or investigated companies not participating in this review, the cash deposit rate will continue to be the company-specific rate published for the most recently-completed segment of this proceeding in which the company was reviewed; (3) if the exporter is not a firm covered in this review or previous segment, but the producer is, then the cash deposit rate will be the rate established for the most recently-completed segment for the producer of the merchandise; and (4) the cash deposit rate for all other producers or exporters will continue to be 5.34 percent, the all-others rate made effective by the Section 129 Determination.³³ These deposit requirements, when imposed, shall remain in effect until further notice.

³³ See Implementation of the Findings of the WTO Panel in United States Antidumping Measure on Shrimp from Thailand: Notice of Determination Under Section 129 of the Uruguay Round Agreements Act and Partial Revocation of the Antidumping Duty Order on Frozen Warmwater Shrimp from Thailand, 74 FR 5638 (January 30, 2009) (Section 129 Determination).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Final Results of Review

Unless otherwise extended, Commerce intends to issue the final results of this administrative review, including the results of its analysis of the issues raised in any written briefs, not later than 120 days after the date of publication of this notice in the Federal Register, pursuant to section 751(a)(3)(A) of the Act and 19 CFR 351.213(h)(1).

Notification to Interested Parties

We are issuing and publishing these results in accordance with sections 751(a)(1) and 777(i)(1) of the Act, and 19 CFR 351.221(b)(4).

Dated: June 5, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Application of Facts Available and Use of Adverse Inference

V. Discussion of the Methodology

VI. Currency Conversion

VII. Recommendation

Appendix II

List of Companies for Which the Administrative Review Has Been Rescinded

1. A. Wattanachai Frozen Products Co., Ltd.

2. A.P. Frozen Foods Co., Ltd.

3. A.S. Intermarine Foods Co., Ltd.

4. ACU Transport Co., Ltd.

5. Ampai Frozen Food Co., Ltd.

6. Andaman Seafood Co., Ltd.

7. Anglo-Siam Seafoods Co., Ltd.

8. Apex Maritime (Thailand) Co., Ltd.

9. Apitoon Enterprise Industry Co., Ltd.

10. Applied DB Ind.; Applied DB.

11. Asian Alliance International Co., Ltd.

12. Asian Sea Corporation Public Company Limited

13. Asian Seafood Coldstorage (Sriracha)

14. Asian Seafoods Coldstorage PLC

15. Asian Seafoods Coldstorage Public Co., Ltd.; Asian Seafoods Coldstorage (Suratthani) Co.

16. Asian Star Trading Co., Ltd.

17. Assoc. Commercial Systems.

18. Bangkok Dehydrated Marine Product Co., Ltd.

19. Bright Sea Co., Ltd.; The Union Frozen Products Co., Ltd.

20. C N Import Export Co., Ltd.

21. C Y Frozen Food Co., Ltd.

22. C.P. Intertrade Co. Ltd.

23. C.P. Mdse.

24. C.P. Retailing and Marketing Co., Ltd.

25. Calsonic Kansei (Thailand) Co. Ltd.

26. Century Industries Co., Ltd.

27. Chaivaree Marine Products Co., Ltd.

28. Chaiwarut Company Limited.

29. Chanthaburi Frozen Food Co., Ltd.

30. Chanthaburi Seafoods Co., Ltd.

31. Charoen Pokphand Petrochemical Co., Ltd.

32. Chonburi LC.

33. Chue Eie Mong Eak.

34. Commonwealth Trading Co., Ltd.

35. Core Seafood Processing Co. Ltd.

36. CPF Food Network Co., Ltd.

37. CPF Food Products Co., Ltd.

38. Crystal Frozen Foods Co., Ltd.

39. Crystal Seafood.

40. Daedong (Thailand) Co., Ltd.

41. Daiei Taigen (Thailand) Co., Ltd.

42. Daiho (Thailand) Co., Ltd.

43. Dynamic Intertransport Co. Ltd.

44. Earth Food Manufacturing Co., Ltd.

45. F.A.I.T. Corporation Limited.

46. Far East Cold Storage Co., Ltd.

47. Fimex Vn.

48. Findus (Thailand) Ltd.

49. Fortune Frozen Foods (Thailand) Co., Ltd.

50. Gallant Ocean (Thailand) Co., Ltd.

51. Gallant Seafoods Corporation.

52. Global Maharaja Co., Ltd.

53. Golden Sea Frozen Foods Co. Ltd.

54. Golden Seafood International Co., Ltd.

55. Golden Thai Imp. & Exp. Co., Ltd.

56. Good Fortune Cold Storage Ltd.

57. Grobest Frozen Foods Co., Ltd.

58. Gulf Coast Crab Intl.

59. H.A.M. International Co., Ltd.

60. Haitai Seafood Co., Ltd.

61. Handy International (Thailand) Co., Ltd.

62. Heng Seafood Limited Partnership.

63. Heritrade Co., Ltd.; Heritrade.

64. HIC (Thailand) Co., Ltd.

65. High Way International Co., Ltd.

66. Intersia Foods Co., Ltd.

67. Inter-Oceanic Resources Co., Ltd.

68. Inter-Pacific Marine Products Co., Ltd.

69. K & U Enterprise Co., Ltd.

70. K Fresh.

71. K.D. Trading Co., Ltd.

72. K.L. Cold Storage Co., Ltd.

73. Kiang Huat Sea Gull Trading Frozen Food Public Co., Ltd.

74. Kibun Trdg.

75. Klang Co., Ltd.

76. Kyokuyo Global Seafoods Co., Ltd.

77. Leo Transports.

78. Li-Thai Frozen Foods Co., Ltd.

79. Lucky Union Foods Co., Ltd.

80. Magnate & Syndicate Co., Ltd.

81. Mahachai Food Processing Co., Ltd.

82. Mahachai Marine Foods Co. Ltd.

83. Marine Gold Products Ltd.

84. May Ao Foods Co., Ltd.; A Foods 1991 Co., Limited

85. Merit Asia Foodstuff Co., Ltd.

86. Merkur Co., Ltd.

87. Mild Foods Co., Ltd.

88. Ming Chao Ind Thailand.

89. N&N Foods Co., Ltd.

90. N.R. Instant Produce Co., Ltd.

91. Namprik Maesri Ltd. Part.

92. Narong Seafood Co., Ltd.

93. Nongmon SMJ Products.

94. Pacific Fish Processing Co., Ltd.

95. Pacific Queen Co., Ltd.

96. Pakpanang Coldstorage Public Co., Ltd.

97. Penta Impex Co., Ltd.

98. Phatthana Seafood Co., Ltd.

99. Pinwood Nineteen Ninety Nine.

100. Piti Seafood Co., Ltd.

101. Premier Frozen Products Co., Ltd.

102. Preserved Food Specialty Co., Ltd.

103. Queen Marine Food Co., Ltd.

104. Rayong Coldstorage (1987) Co., Ltd.

105. Royal Andaman Seafood Co., Ltd.

106. S.C.C. Frozen Seafood Co., Ltd.

107. S&D Marine Products Co., Ltd.

108. S&P Syndicate Public Company Ltd.

109. S. Chaivaree Cold Storage Co., Ltd.

110. S. Khonkaen Food Ind Public; S. Khonkaen Food Industry Public Co., Ltd.

111. S.K. Foods (Thailand) Public Co. Limited.

112. S2K Marine Product Co., Ltd.

113. Samui Foods Company Limited.

114. SB Inter Food Co., Ltd.

115. SCT Co., Ltd.

116. Seafoods Enterprise Co., Ltd.

117. Sea Bonanza Food Co., Ltd.

118. SEA NT'L CO., LTD.

119. Sea Wealth Frozen Food Co., Ltd.

120. SEAPAC.

121. Search and Serve.

122. Sea-Tech Intertrade Co., Ltd.

123. Sethachon Co., Ltd.

124. Shianlin Bangkok Co., Ltd.

125. Shing Fu Seaproducts Development Co.

126. Siam Food Supply Co., Ltd.

127. Siam Haitian Frozen Food Co., Ltd.

128. Siam Intersea Co., Ltd.

129. Siam Marine Products Co., Ltd.

130. Siam Ocean Frozen Foods Co., Ltd.

131. Siam Union Frozen Foods; The Siam Union Frozen Foods Co., Ltd.

132. Siamchai International Food Co., Ltd.

133. Smile Heart Foods; Smile Heart Foods Co. Ltd.

134. SMP Food Product Co., Ltd.; SMP Foods Products Co., Ltd.; SMP Products, Co., Ltd.; SMP Food Products Co., Ltd.

135. Songkla Canning Public Co., Ltd.

136. Southeast Asian Packaging and Canning Ltd.

137. Southport Seafood; Southport Seafood Co., Ltd.

138. Star Frozen Foods Co., Ltd.

139. Starfoods Industries Co., Ltd.

140. STC Foodpak Ltd.

141. Suntechthai Intertrading Co., Ltd.

142. Surapon Seafood; Surapon Seafoods Public Co. Ltd; Surat Seafoods Public Co., Ltd.; Surapon Foods Public Co. Ltd.

143. Surapon Nichirei Foods Co., Ltd.

144. Suratthani Marine Products Co., Ltd.

145. Suree Interfoods Co., Ltd.

146. T.S.F. Seafood Co., Ltd.

147. Teppitak Seafood Co., Ltd.

148. Tep Kinsho Foods Co., Ltd.

149. Thailand Fishery Cold Storage Public Co., Ltd.

150. Thai Agri Foods Public Co., Ltd.

151. Thai Hanjin Logistics Co., Ltd.

152. Thai-Ger Marine Co.; Ongkorn Cold Storage Co., Ltd.

153. Thai I-Mei Frozen Foods Co., Ltd.

154. Thai International Seafoods Co., Ltd.

155. Thai Mahachai Seafood Products Co., Ltd.

156. Thai Ocean Venture Co., Ltd.

157. Thai Pak Exports Co., Ltd.

158. Thai Patana Frozen Co., Ltd.

159. Thai Prawn Culture Center Co., Ltd.

160. Thai Spring Fish Co., Ltd.

161. Thai World Import and Export Co., Ltd.; Thai World Imports and Exports Co., Ltd.

162. Thai Yoo Ltd., Part.

163. The Siam Union Frozen Foods Co., Ltd.

164. Thong Thuan Co., Ltd.

165. Top Product Food Co., Ltd.

166. Trang Seafood Products Public Co., Ltd.

167. Transamut Food Co., Ltd.

168. Tung Lieng Trade

169. Unicord Public Co., Ltd.

170. United Cold Storage Co., Ltd.

171. V. Thai Food Product Co., Ltd.

172. Wales & Co. Universe Limited

173. Wann Fisheries Co., Ltd.

174. Yeenin Frozen Foods Co., Ltd.

175. ZAFCO TRDG

Appendix III

List of Non-Individually Examined Companies

1. B.S.A. Food Products Co., Ltd.

2. C.K. Frozen Fish and Food Co., Ltd.

3. Good Luck Product Co., Ltd.

4. I.T. Foods Industries Co., Ltd.

5. Kingfisher Holdings Ltd.; KF Foods Limited; KF Foods

6. Kitchens of the Ocean (Thailand) Company, Ltd.; Kitchens of the Ocean (Thailand) Ltd.

7. Kongphop Frozen Foods Co., Ltd.

8. Lee Heng Seafood Co., Ltd.

9. Phatthana Frozen Food Co., Ltd.

10. Seafresh Industry Public Co., Ltd.; Seafresh Fisheries

11. Tey Seng Cold Storage Co., Ltd.; Chaiwarut Co., Ltd.; Chaiwarut Company Limited

12. Thai Union Manufacturing Company Limited.

13. Xian-Ning Seafood Co., Ltd.

[FR Doc. 2025-10635 Filed 6-10-25; 8:45 am]

BILLING CODE 3510-DS-P